DEPARTMENT OF THE INTERIOR

Fish and Wildlife Service

Notice of Availability of a Draft Recovery Plan for the California Red-legged Frog for Review and Comment

AGENCY: U.S. Fish and Wildlife Service, Interior.

ACTION: Notice of document availability.

SUMMARY: The U.S. Fish and Wildlife Service (Service) announces the availability of a draft recovery plan for the California red-legged frog for public review. This recovery plan includes the threatened California red-legged frog (Rana aurora draytonii). This subspecies of red-legged frog has been extirpated from 70 percent of its former range and is now found in coastal drainages of central California from Marin County, California, south to northern Baja California, Mexico. The Service solicits review and comment from local, State, and Federal agencies, and the public on this draft recovery plan.

DATES: Comments on the draft recovery plan must be received on or before August 10, 2000 to receive consideration by the Service.

ADDRESSES: The draft recovery plan is available for public inspection by appointment during normal business hours at the Service's Sacramento Fish and Wildlife Office, 2800 Cottage Way, W-2605, Sacramento, California. Persons wishing to review the draft recovery plan may obtain a copy by contacting the Field Supervisor (attention Wayne S. White) at the above address or by calling (916) 414-6600. Comments and materials should be submitted to the above address, and are available on request for public inspection by appointment at the Sacramento Fish and Wildlife Office.

FOR FURTHER INFORMATION CONTACT: Diane Elam, Fish and Wildlife Biologist, at the above Sacramento address.

SUPPLEMENTARY INFORMATION:

Background

Restoring endangered or threatened animals and plants to the point where they are again secure, self-sustaining members of their ecosystems is a primary goal of the Service's endangered species program. To help guide the recovery effort, the Service is working to prepare recovery plans for most of the listed species native to the United States. Recovery plans describe actions considered necessary for the conservation of the species, establish criteria for downlisting or delisting listed species, and estimate time and cost for implementing the recovery measures needed.

The Endangered Species Act of 1973, as amended (Act) (16 U.S.C. 1531 et seq.), requires the development of recovery plans for listed species unless such a plan would not promote the conservation of a particular species. Section 4(f) of the Act as amended in 1988 requires that public notice and an opportunity for public review and comment be provided during recovery plan development. The Service will consider all information presented during the public comment period prior to approval of each new or revised recovery plan. Substantive technical comments will result in changes to the plan. Substantive comments regarding recovery plan implementation may not necessarily result in changes to the recovery plan, but will be forwarded to appropriate Federal or other entities so that they can take these comments into account during the course of implementing recovery actions. Individual responses to comments will not be provided.

The California red-legged frog (Rana aurora draytonii) occurs from sea level to elevations of about 1,500 meters (5,000 feet) in its range. It has been extirpated from 70 percent of its former range. The California red-legged frog requires a variety of habitat elements with aquatic breeding areas embedded within a matrix of riparian and upland dispersal habitats. Breeding sites of the California red-legged frog are in aquatic habitats including pools and backwaters within streams and creeks, ponds, marshes, sag ponds, dune ponds, and lagoons. California red-legged frogs frequently breed in artificial impoundments such as stock ponds. Potential threats to the species include elimination or degradation of habitat from land development and land use activities, and habitat invasions by non-native aquatic species.

The objective of this recovery plan is to delist the California red-legged frog through implementation of a variety of recovery measures including (1) Protection of known populations and reestablishment of populations; (2) protection of suitable habitat, corridors, and core areas; (3) habitat management; (4) development of land use guidelines; (5) research; (6) surveying and monitoring; and (7) public participation, outreach, and education.

Public Comments Solicited

The Service solicits written comments on the draft recovery plan described. All comments received by the date specified above will be considered prior to approval of this plan.

Authority

The authority for this action is section 4(f) of the Endangered Species Act, 16 U.S.C. 1533(f).

Elizabeth H. Stevens,
Acting Manager, California/Nevada Operations Office, Region 1, U.S. Fish and Wildlife Service.

[FR Doc. 00-11947 Filed 5-11-00; 8:45 am]

BILLING CODE 4310-55-P